DEPARTMENT OF TRANSPORTATION

National Highway Traffic Safety Administration

49 CFR Part 571

[Docket No. NHTSA-2011-0140]

RIN 2127-AL02

Federal Motor Vehicle Safety Standards; Electronic Stability Control Systems

AGENCY: National Highway Traffic Safety Administration (NHTSA), Department of Transportation.

ACTION: Final rule; response to petition for reconsideration.

SUMMARY: This document responds to a petition for reconsideration of a September 2008 final rule that made changes to a new Federal motor vehicle safety standard requiring light vehicles to be equipped with electronic stability control systems. In that final rule, the agency stated that it had previously fulfilled the obligations of the United States with respect to initiating rulemaking with respect to the global technical regulation for electronic stability control and had adopted the regulation to the extent appropriate. The petition for reconsideration identified three areas of the present text of the electronic stability control standard that are not, in the petitioner's view, harmonized with the global technical regulation. After considering the petition, the agency is granting the petition in part and amending slightly the test procedures of the standard and is otherwise denying the petition.

DATES: This final rule is effective October 11, 2011.

Petitions for reconsideration must be received not later than October 24, 2011.

ADDRESSES: Petitions for reconsideration should refer to the docket number and must be submitted to: Administrator, National Highway Traffic Safety Administration, 1200 New Jersey Avenue, SE., Washington, DC 20590.

FOR FURTHER INFORMATION CONTACT: For technical issues, you may contact John Lee, Office of Crash Avoidance Standards, by telephone at (202) 366-4924, and by fax at (202) 366-7002.

For legal issues, you may contact David Jasinski, Office of the Chief Counsel, by telephone at (202) 366-2992, and by fax at (202) 366-3820.

You may send mail to both of these officials at the National Highway Traffic Safety Administration, 1200 New Jersey Avenue, SE., Washington, DC 20590.

SUPPLEMENTARY INFORMATION:

Table of Contents

I. Background of the ESC Regulation

A. Benefits of ESC

B. ESC Final Rule

C. September 2008 Amendment

II. GTR and Petition for Reconsideration

A. Global Technical Regulation

B. Alliance's Petition for Reconsideration

III. Discussion and Analysis of Petition

A. ESC Control Identification

B. Two-Part Telltales

C. Lightweight Outriggers

D. Effective Date

IV. Rulemaking Analyses and Notices

V. Regulatory Text

I. Background of the ESC Regulation

A. Benefits of ESC

Electronic stability control (ESC) systems use automatic computer-controlled braking of individual wheels to assist the driver in maintaining control in critical driving situations in which the vehicle is beginning to lose directional stability at the rear wheels (spin out) or directional control at the front wheels (plow out). NHTSA's crash data study of existing vehicles equipped with ESC demonstrated that these systems reduce fatal single-vehicle crashes of passenger cars by 55 percent and fatal single-vehicle crashes of light trucks and vans (LTVs) by 50 percent.¹ NHTSA estimates that ESC has the potential to prevent 56 percent of the fatal passenger car rollovers and 74 percent of the fatal LTV first-event rollovers that would otherwise occur in single-vehicle crashes.²

¹ Sivinski, R., Crash Prevention Effectiveness of Light-Vehicle Electronic Stability Control: An Update of the 2007 NHTSA Evaluation; DOT HS 811 486 (June 2011).

² Id.

B. ESC Final Rule

On April 6, 2007, NHTSA published a final rule establishing Federal Motor Vehicle Safety Standard (FMVSS) No. 126, Electronic Stability Control Systems, which sets forth requirements for ESC systems on new light vehicles.³ FMVSS No. 126 contains performance requirements that include both definitional and dynamic testing elements. These elements together ensure that ESC systems intervene properly to limit oversteer and understeer in order to provide the level of yaw (directional) stability associated with the high level of safety benefits observed in crash data studies of ESC-equipped vehicles. NHTSA adopted a phase-in schedule to implement this requirement such that all light vehicles manufactured on or after September 1, 2011 must be equipped with a complying ESC system.

³ 72 FR 17236. Docket No. NHTSA-2007-27662, item 1.

FMVSS No. 126 also requires a standardized set of ESC telltales and controls. However, compliance with the telltale and control requirements was deferred until the end of the phase-in period. NHTSA concluded that it was not practicable to implement the telltale and control requirements under the phase-in schedule and was unwilling to delay the phase-in and the expected safety benefits for this reason alone. Accordingly, the provisions in FMVSS No. 126 dealing with telltales and controls are prefaced by the phrase “as of September 1, 2011.”

C. September 2008 Amendment

We received four petitions for reconsideration of the April 2007 final rule. Among the issues raised in the petitions were ones involving details of the requirements for controls and telltales. On September 22, 2008, we published a final rule (September 2008 reconsideration rule) that granted in part and denied in part the petitions.⁴ Three of the issues we addressed are pertinent to the issues discussed in this petition for reconsideration of that rule.

⁴ 73 FR 54526, Docket No. NHTSA-2008-0068, item 1.

First, we granted a petition by Porsche Cars North America, Inc. (Porsche) to allow two-part “ESC Off” telltales. The April 2007 final rule required both an ESC malfunction telltale identified by the ISO symbol for ESC or the abbreviation “ESC” and a second telltale to identify when an ESC system has been turned off by the driver. The second telltale was required to be identified by the ISO symbol for ESC with the word “Off” below it or by the words “ESC Off.” We considered allowing a two-part telltale in the April 2007 final rule, but decided against doing so because we thought that allowing a partial telltale would have created a conflict with the requirement that the ESC Off status be indicated by the ESC Off telltale whenever the driver has manually disabled the ESC system and that an ESC malfunction be indicated separately by the ESC malfunction telltale when an ESC malfunction occurs at the same time.

Porsche petitioned for reconsideration of the April 2007 final rule, stating that its ESC system is designed in a manner such that, in the rare case in which an ESC malfunction occurs after the system has been manually disabled, the system automatically disables the manual control functionality and extinguishes the word “Off' while continuing to illuminate the ESC symbol or abbreviation, thereby indicating the malfunction. Upon reconsideration, NHTSA decided to allow for a two-part telltale rather than requiring manufacturers to maintain separate telltales for ESC malfunction and “ESC Off.” In the September 2008 final rule, we explained that, if an ESC malfunction occurs after a driver has disabled ESC, requiring that both telltales illuminate at the same time, both telltales would communicate the same message to the driver: That the ESC functionality has been reduced or eliminated. Also, we noted our belief that it would be rare for an ESC system to malfunction after it has been manually disabled. Because of that, we believe that requiring both messages to display simultaneously is not necessary for safety. Accordingly, we amended S5.3.3 of FMVSS No. 126 to allow for a two-part “ESC Off” telltale.

Second, we received a petition from the Alliance of Automobile Manufacturers (Alliance) and the Association of International Automobile Manufacturers ⁵ seeking clarification that an ESC Off control could be included in a multi-function control that could be used to turn ESC off or on and could also be used to turn traction control off and to select an ESC “performance mode” would not be prohibited by FMVSS No. 126. We consider a multi-function control to be a switch or button that combines several functions. As provided by S5.4.3 (formerly S5.4.2),⁶ an ESC control whose only purpose is to disable the ESC system or place it in a mode or modes in which it no longer satisfies the performance requirements must be labeled either with the ESC symbol plus the word “Off” or the phrase “ESC Off.” Paragraph S5.4.4 (formerly S5.4.3) creates an exception for a control used primarily for another function, such as a four-wheel drive low-range transfer case, that does not control the ESC system directly but has the ancillary effect of placing the ESC system in a mode that no longer satisfies the performance requirement. We agreed that a multi-function control was permissible, and we clarified S5.4.4 accordingly.

⁵ The Association of International Automobile Manufacturers is now known as Global Automakers.

⁶ The September 2008 final rule redesignated S5.4.2 and S5.4.3 as S5.4.3 and S5.4.4 respectively. See 73 FR 54542. For the sake of simplicity, we will refer to the paragraph designations as they exist now throughout this document.

Third, the petition also raised the issue of the identification of multi-function controls and provided an example of a rotary multi-mode control, which is shown in Figure 1 below. We stated that an ESC Off control, regardless of whether it is contained in a multifunction control, must be labeled “ESC Off.” In the case of the example provided in Figure 1, we stated that such a control would not be permissible. In explaining that conclusion, we noted that the “ESC Off” label was not adjacent to the control because a lamp was located between the two, and that the control could be made to comply with FMVSS No. 101 by moving the lamp to the right side of the label.

II. GTR and Petition for Reconsideration

A. Global Technical Regulation

The April 2007 final rule described NHTSA's intent to begin formal work to develop a global technical regulation (GTR) on ESC in that year. Over the course of several meetings of the United Nations' Economic Commission for Europe (UNECE) World Forum for the Harmonization of Vehicle Regulations (WP.29) during 2007 and 2008, the agency participated in successful efforts that culminated in the establishment of the ESC GTR (GTR No. 8) under the 1998 Global Agreement.⁷ The U.S., as a Contracting Party of the 1998 Agreement that voted in favor of establishing this GTR, is obligated under the Agreement to initiate the process for adopting the provisions of the GTR.⁸ We stated that the September 2008 reconsideration rule fulfilled the obligation of the U.S. to initiate that process because the regulatory text of the April 2007 final rule, as amended by the September 2008 reconsideration rule, is consistent with that of GTR No. 8.

⁷ Although commonly referred to as the 1998 Global Agreement, this provision is more formally titled the “1998 Agreement Concerning the Establishing of Global Technical Regulations for Wheeled Vehicles, Equipment and Parts which can be Fitted and/or be Used on Wheeled Vehicles.”

⁸ While the 1998 Agreement obligates such Contracting Parties to initiate rulemaking within one year of the establishment of the GTR, it leaves the ultimate decision of whether to adopt the GTR into their domestic law to the parties themselves.

B. Alliance's Petition for Reconsideration

We received one petition for reconsideration of the September 2008 reconsideration rule from the Alliance. The petition identified three areas in which the Alliance believes there are inconsistencies between FMVSS No. 126 and GTR No. 8.⁹ The Alliance also provided a follow-up letter recommending specific regulatory language to address one of the issues raised in its petition.¹⁰

⁹ Docket No. NHTSA-2008-0068, item 2.

¹⁰ Docket No. NHTSA-2008-0068, item 3.

First, the Alliance stated that the provisions of FMVSS No. 126 and the corresponding part of the table of controls, telltales, and indicators in FMVSS No. 101 related to the labeling of multi-function controls is not consistent with GTR No. 8. Second, the Alliance stated that NHTSA did not amend all of the necessary provisions to allow for a two-part telltale. Third, the Alliance stated that, unlike GTR No. 8, FMVSS No. 126 does not allow for the use of light weight outriggers for testing vehicles weighing less than 1,588 kg (3,500 lbs.). The Alliance's discussion of these issues and our response is described in detail in the next section.

III. Discussion and Analysis of Petition

A. ESC Control Identification

As amended by the September 2008 reconsideration rule, S5.4 of FMVSS No. 126 allows for the use of multi-function controls to place the ESC system in a noncompliant mode and for the use of controls for other systems that have the ancillary effect of placing the ESC system in a noncompliant mode. Pursuant to S5.4.4, a control for a system that has the ancillary effect of placing the ESC system in a noncompliant mode need not be labeled with an “ESC Off” identifier. No such exclusion exists for a multi-function control. Thus, a multi-function control that can be used to place the ESC system in a noncompliant mode must be labeled with the “ESC Off” identifier.

GTR No. 8 also excludes controls for a system that has the ancillary effect of placing the ESC system in a noncompliant mode from the requirement that the control be labeled with the “ESC Off” identifier. However, GTR No. 8 has two additional provisions that are not found in FMVSS No. 126 related to two types of multi-function controls. First, GTR No. 8 requires that a control for a multi-mode ESC system, with at least one noncompliant mode, be identified with the “ESC” symbol with the text “OFF” adjacent to the control position for a noncompliant mode. Second, where an ESC system is controlled by a multi-functional control associated with a multi-task display, the control itself is not required to be identified with the “ESC Off” identifier, but the driver display is required to identify clearly to the driver the control position for a noncompliant mode with the “ESC Off” identifier. The Alliance petitioned the agency to incorporate these two provisions into FMVSS No. 126 to achieve harmonization.

We are denying the portion of the Alliance's petition seeking amendment to ESC control identification. We believe that the ESC control identification provisions of FMVSS No. 126 fully implement the provisions of GTR No. 8, and that no further amendment is necessary to achieve harmonization. We address our reasons with respect to each of the two types of multi-function controls below.

First, regarding multi-function ESC controls, such as the example in Figure 1, that include at least one function designed to place the ESC system in a mode or modes that would no longer satisfy the performance requirements of S5.2.1, S5.2.2, and S5.2.3 of FMVSS No. 126, we addressed such a control in the September 2008 reconsideration rule. We stated that the example set forth in Figure 1 would not satisfy the requirement that the “ESC Off” label (the “identifier”) be adjacent to the control that it identifies because the telltale lamp is located between the two. The definition of “adjacent”, as set forth in S4 of FMVSS No. 101, requires that the identifier of a control be both in close proximity to the control and that no other control, telltale, indicator, identifier, or source of illumination appear between the identifier and the control. We suggested that this problem could be solved by moving the lamp to the other side of the label. If the lamp was moved to the other side of the label, the identifier “ESC Off” would be adjacent to the “ESC Off” control.

The Alliance contends that adopting the language of the GTR would accommodate the specific control set forth in Figure 1. However, even if we made the amendment suggested by the Alliance, the example set forth in Figure 1 would not meet the requirements of FMVSS No. 101 because a source of illumination would be located between the control and the identifiers of the various control positions. That is, the Alliance's concern with respect to the example control in Figure 1 is not with harmonization, but with the requirements of FMVSS No. 101. FMVSS No. 101 generally requires that the identifiers of the various control positions be adjacent to the control. Otherwise, there would be nothing to prohibit the identifiers of the various control positions from being located in a remote location.

Although the Alliance contends that the language of GTR No. 8 would also accommodate a push-button control that must be pressed repeatedly in order to cycle through multiple functions, we find nothing in the text of GTR No. 8 or the amendments suggested by the Alliance that would allow any control other than one similar to that set forth in Figure 1. However, if the control depicted in Figure 1 were operated by pushing the control rather than turning it, we again note that such a control would be permissible if the lamp was moved to the other side of the label.

The Alliance has offered no compelling justification for changing our position set forth in the September 2008 reconsideration rule that controls similar to the one depicted in Figure 1 would be allowed simply by moving the lamp to the other side of the label to comply with FMVSS No. 101. Therefore, we do not believe the Alliance's suggested amendment to accommodate multi-function controls is necessary to harmonize FMVSS No. 126 with GTR No. 8.

Second, regarding ESC controls incorporated into multi-function controls with associated multi-task display, we do not believe any regulatory amendment is necessary to accommodate such controls. There is a general requirement, set forth in S5.1.3 of FMVSS No. 101, that the identification of controls must be placed on or adjacent to controls, and this general requirement is applicable to “ESC Off” controls. However, S5.1.4 of FMVSS No. 101 sets forth an exception to this general requirement for multi-function controls associated with a multi-task display. Such controls must meet the following five requirements set forth in that section:

• The control must be visible to the driver under defined conditions.

• The display must identify the control with which it is associated graphically or using words.

• If the control has layers, the top-most layer must identify which control is possible from the associated multi-function control.

• The controls identified in Table 1 and Table 2 of FMVSS No. 101 (which includes “ESC Off”) must use the identification specified in the table whenever those functions are the active function of the control.

• Associated displays may not display telltales listed in Table 1 or Table 2 (which includes “ESC Off”).

An “ESC Off” control may be included in a multi-function control with an associated multi-task display, provided it meets the requirements of S5.1.4 of FMVSS No. 101. We acknowledge that preamble language in the September 2008 reconsideration rule suggested that controls used to navigate through multiple functions (including ESC Off) displayed in an information center must be labeled with “ESC Off.” We did not intend that statement to apply to multi-function controls with an associated multi-task display allowed by FMVSS No. 101. We find nothing in the text of FMVSS No. 126 that would exclude “ESC Off” controls from being included in such a multi-function control with an associated multi-task display permitted by FMVSS No. 101. Accordingly, no amendment is necessary to accommodate such controls.

B. Two-Part Telltales

The Alliance acknowledged NHTSA's allowance of a two-part telltale in the September 2008 final rule. However, the Alliance stated that, although NHTSA amended S5.3.3 of FMVSS No. 126 to allow for a two-part telltale, S5.5.2 was not modified and could be read to prohibit the use of a two-part telltale.

As set forth in the April 2007 final rule, S5.5.2 requires that the “ESC Off” telltale be identified by the symbol for “ESC Off” or the text “ESC OFF.” The Alliance noted that GTR No. 8 requires the telltale to be identified with the symbol for “ESC Off,” the text “ESC OFF,” or the word “OFF” on or adjacent to either the ESC Off control or the ESC malfunction telltale. The Alliance requested that NHTSA amend S5.5.2 to incorporate all of the provisions related to two-part telltales as provided in GTR No. 8.

We are denying the Alliance's petition to amend S5.5.2 because we do not agree that S5.5.2 could be read to prohibit the use of two-part telltales. A two-part telltale is, by definition, the addition of the word “OFF” adjacent to the ESC malfunction telltale. The acceptable “ESC Off” telltales listed in S5.5.2 include the “ESC Off” symbol or the text “ESC OFF.” Both the “ESC Off” symbol and the text “ESC OFF” place the word “OFF” adjacent to what would be considered an appropriate ESC malfunction telltale. Accordingly, S5.5.2 does not prohibit the use of two-part telltales.

Furthermore, the Alliance's requested language, which provides that the word “OFF” on or adjacent to the control referred to in S5.4 of FMVSS No. 126 (the “ESC Off” control) would be an allowed “ESC Off” telltale, is problematic. We cannot discern how the word “OFF” on or adjacent to a control would, by itself, constitute a two-part telltale. As noted above, a two-part telltale places the word “OFF” adjacent to the illuminated ESC malfunction telltale. The word “OFF” adjacent to the control would only constitute a two-part telltale if the control itself included the illuminating ESC malfunction telltale. Thus, by being adjacent to the control, the word “OFF” would also be adjacent to the telltale. But such a control would not be a two-part telltale because the word “OFF” was next to the control; rather, it would be a two-part telltale because the word “OFF” was adjacent to the illuminated ESC malfunction telltale. The agency is unaware of any such design. Accordingly, it is not necessary to accommodate two-part telltales or achieve harmonization to include language stating that the word “OFF” on or adjacent to the control referred to the “ESC Off” control would be an allowed “ESC Off” telltale.

C. Lightweight Outriggers

The Alliance's petition for reconsideration also noted an inconsistency between FMVSS No. 126 and GTR No. 8 regarding the use of outriggers for testing light weight vehicles weighing less than 1,588 kg (3,500 lb). Specifically, GTR No. 8 specifies three sizes of outriggers depending on the weight of the vehicle, while FMVSS No. 126 only specifies two sizes of outriggers. The Alliance noted that European and Asian markets have a larger proportion of light weight vehicles than the United States market. However, the Alliance also cited recent increases in fuel prices and demand by consumers for smaller vehicles. The Alliance noted in its petition that there is at least one sport-utility vehicle that weighs less than 1,588 kg (3,500 lb). The Alliance predicted that, with increasing fuel costs, it is likely that the United States vehicle fleet, including light trucks, will shift to lighter weight vehicles, and that it would be necessary to evaluate these smaller vehicles with the light weight outrigger.

The testing procedures for FMVSS No. 126 specify that trucks, multipurpose passenger vehicles, and buses are equipped with outriggers when tested. Passenger cars need not be tested with outriggers. Therefore, the Alliance's suggested change to FMVSS No. 126 would only apply to lightweight trucks, multipurpose passenger vehicles, and buses under 1,588 kg (3,500 lb) baseline weight.

The Alliance correctly noted in its petition that GTR No. 8 and FMVSS No. 126 differ in their specifications for outriggers on vehicles weighing less than 1,588 kg (3,500 lb). While FMVSS No. 126 specifies the use of a standard outrigger for all vehicles with a baseline weight under 2,722 kg (6,000 lb), GTR No. 8 specifies the use of a standard outrigger for vehicles weighing between 1,588 kg (3,500 lb) and 2,722 kg (6,000 lb) and a light outrigger for vehicles weighing less than 1,588 kg (3,500 lb). FMVSS No. 126 does not specify the use of lightweight outriggers for testing trucks, multipurpose passenger vehicles, or buses.

NHTSA grants the Alliance's petition with regard to the use of light outriggers on lightweight trucks, multipurpose passenger vehicles, and buses. Although there are presently only a few trucks with baseline weights of 1,588 kg (3,500 lb) or below, there is a possibility that production of lightweight trucks may increase in the future. To achieve accuracy of testing of these lightweight vehicles and to promote driver safety, NHTSA is amending S6.3.4 to include the use of lightweight outriggers for vehicles with a baseline weight of less than 1,588 kg (3,500 lb). This amendment has the effect of harmonizing the provisions of FMVSS No. 126 related to the use of outriggers in testing with those of GTR No. 8.

D. Effective Date

Section 30111(d) of title 49, United States Code, provides that a Federal motor vehicle safety standard may not become effective before the 180th day after the standard is prescribed or later than one year after it is prescribed except when a different effective date is, for good cause shown, in the public interest. This rule makes amendments to regulatory provisions that are subject to phase-in and delayed effective dates that were set forth in the April 2007 final rule. These amendments do not impose new requirements on manufacturers, but instead change the outriggers the agency uses during compliance testing of a very small number of vehicles to increase the testing accuracy. Therefore, good cause exists for these amendments to be made effective before the 180th day after issuance of this final rule.

IV. Rulemaking Analyses and Notices

We have considered the impact of this rulemaking action under Executive Order 12866, “Regulatory Planning and Review,” Executive Order 13563, “Improving Regulation and Regulatory Review,” and the Department of Transportation's regulatory policies and procedures. This rulemaking document was not reviewed by the Office of Management and Budget under those two Executive Orders. This rule makes several minor changes to the regulatory text of FMVSS No. 126, and does not increase the regulatory burden of manufacturers. It has been determined to be not “significant” under Executive Order 12866 and the Department of Transportation's regulatory policies and procedures.

The agency has discussed the relevant requirements of the Vehicle Safety Act, the Regulatory Flexibility Act, Executive Order 13132 (Federalism), Executive Order 12988 (Civil Justice Reform), Executive Order 13045 (Protection of Children from Environmental Health and Safety Risks), the Paperwork Reduction Act, the National Technology Transfer and Advancement Act, the Unfunded Mandates Reform Act, and the National Environmental Policy Act in the April 2007 final rule cited above. Those discussions are not affected by these changes.

Privacy Act

Please note that any one is able to search the electronic form of all documents received into any of our dockets by the name of the individual submitting the document (or signing the document, if submitted on behalf of an association, business, labor union, etc.). You may review DOT's complete Privacy Act Statement in the Federal Register published on April 11, 2000 (Volume 65, Number 70; Pages 19477-78), or you may visit http://www.dot.gov/privacy.html.

V. Regulatory Text

List of Subjects in 49 CFR Parts 571

Imports, Motor vehicle safety, Reporting and recordkeeping requirements, Tires.

In consideration of the foregoing, NHTSA amends 49 CFR part 571 as follows:

PART 571—FEDERAL MOTOR VEHICLE SAFETY STANDARDS

1. The authority citation for part 571 of Title 49 continues to read as follows:

Authority: 49 U.S.C. 322, 30111, 30115, 30117, and 30166; delegation of authority at 49 CFR 1.50.

2. In section 571.126, revise S6.3.4 to read as follows:

§ 571.126 Standard No. 126; Electronic stability control systems.

* * * * *

S6.3.4 Outriggers. Outriggers are used for testing trucks, multipurpose passenger vehicles, and buses. Vehicles with a baseline weight less than 1,588 kg (3,500 lbs) are equipped with “light” outriggers. Vehicles with a baseline weight equal to or greater than 1,588 kg (3,500 lbs) and less than 2,722 kg (6,000 lbs) are equipped with “standard” outriggers. Vehicles with a baseline weight equal to or greater than 2,722 kg (6,000 lbs) are equipped with “heavy” outriggers. A vehicle's baseline weight is the weight of the vehicle delivered from the dealer, fully fueled, with a 73 kg (160 lb) driver. Light outriggers are designed with a maximum weight of 27 kg (59.5 lb) and a maximum roll moment of inertia of 27 kg-m² (19.9 ft-lb-sec²). Standard outriggers are designed with a maximum weight of 32 kg (70 lb) and a maximum roll moment of inertia of 35.9 kg-m² (26.5 ft-lb-sec²). Heavy outriggers are designed with a maximum weight of 39 kg (86 lb) and a maximum roll moment of inertia of 40.7 kg-m² (30.0 ft-lb-sec²).

* * * * *

Issued on: August 31, 2011.
David L. Strickland,
Administrator.

[FR Doc. 2011-23092 Filed 9-8-11; 8:45 am]

BILLING CODE 4910-59-P